DEPARTMENT OF LABOR

Employment and Training Administration

[TA-W-65,329]

General Motors/Toledo Powertrain, Toledo, OH; Notice of Termination of Investigation

Pursuant to Section 221 of the Trade Act of 1974, as amended, an investigation was initiated on February 23, 2009 in response to a worker petition filed by a company official and the United Auto Workers Local 14 on behalf of workers at General Motors/Toledo Poewertrain, Toledo, Ohio.

The petitioners have requested that the petition be withdrawn. Consequently, the investigation has been terminated.

Signed at Washington, DC, this 20th day of March 2009.
Richard Church,
Certifying Officer, Division of Trade Adjustment Assistance.

[FR Doc. E9-8286 Filed 4-9-09; 8:45 am]

BILLING CODE 4510-FN-P